DEPARTMENT OF TRANSPORTATION

Bureau of Transportation Statistics

Reports, Forms and Recordkeeping Requirements, Agency Information Collection Activity Under OMB Review

AGENCY: Bureau of Transportation Statistics, DOT.

ACTION: Notice.

SUMMARY: In compliance with the Paperwork Reduction Act of 1995 (44 U.S.C. 3501 et seq.), this notice announces that the Information Collection Request, ICR abstracted below has been forwarded to the Office of Management and Budget, OMB for extension of currently approved collections. The ICR describes the nature of the information collection and its expected burden. The Federal Register Notice with a 60-day comment period soliciting comments on the following collection of information was published on January 5, 2000, 65 FR 553-554.

DATES: Comments must be submitted on or before May 15, 2000.

FOR FURTHER INFORMATION CONTACT: Bernie Stankus, (202) 366-4387, DOT, Office of Airline Information, Room 4125, K-25, 400 Seventh Street, NW., Washington, DC 20590-0001.

SUPPLEMENTARY INFORMATION:

Bureau of Transportation Statistics, BTS

Title: Report of Financial and Operating Statistics for Small Aircraft Operators—Form 298-C.

Type of Request: Extension of a currently approved Collection.

OMB Control Number: 2138-0009.

Form(s): BTS Form 298-C.

Affected Public: Small certificated and commuter air carriers.

Abstract: Small certificated and commuter air carriers submit BTS Form 298-C, which provides basic financial, traffic, and operating data. DOT uses the data in safety surveillance, essential air service determinations, airport improvement, air traffic control, setting the Alaska mail rate, etc.

Estimated Annual Burden Hours: 4,720.

ADDRESS: Send comments to the Office of Information and Regulatory Affairs, Office of Management and Budget, 725-17th Street, NW., Washington, DC 20503, Attention BTS Desk Officer.

Comments are Invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology. A comment to OMB is most effective if OMB receives it within 30 days of publication.

Issued in Washington, DC, on April 7, 2000.
Donald W. Bright,
Acting Director, Office of Airline Information, Bureau of Transportation Statistics.

[FR Doc. 00-9212 Filed 3-12-00; 8:45 am]

BILLING CODE 4910-FE-P